DEPARTMENT OF HOUSING AND URBAN DEVELOPMENT

[Docket No. FR-5981-D-01]

Consolidated Delegations of Authority for the Office of Community Planning and Development

AGENCY: Office of the Secretary, HUD.

ACTION: Notice of delegations of authority.

SUMMARY: This notice updates, clarifies, and consolidates delegations of authority from the Secretary of Housing and Urban Development to the Assistant Secretary for Community Planning and Development, the Principal Deputy Assistant Secretary for Community Planning and Development and the General Deputy Assistant Secretary for Community Planning and Development.

DATES: Effective Date: January 10, 2017.

FOR FURTHER INFORMATION CONTACT: Cliff Taffet, General Deputy Assistant Secretary, Office of Community Planning and Development, Department of Housing and Urban Development, 451 7th Street SW., Room 7100, Washington, DC 20410-7000; telephone number 202-708-2690. This is not a toll-free number. For those needing assistance, this number may be accessed via TTY by calling the Federal Relay Service at 800-877-8339.

SUPPLEMENTARY INFORMATION: This notice updates, clarifies, and consolidates into one notice the authority delegated by the Secretary of Housing and Urban Development to the Assistant Secretary for Community Planning and Development, the Principal Deputy Assistant Secretary for Community Planning and Development and the General Deputy Assistant Secretary for Community Planning and Development. This notice supersedes all previous delegations to the Assistant Secretary for Community Planning and Development, the Principal Deputy Assistant Secretary for Community Planning and Development and the General Deputy Assistant Secretary for Community Planning and Development, including the delegation published on April 20, 2015, at 80 FR 21747.

Section A. Authority Delegated

Only the Assistant Secretary for Community Planning and Development is delegated the authority to issue a final regulation or a Notice of Funding Availability (NOFA). The authority delegated herein to the Assistant Secretary for Community Planning and Development, the Principal Deputy Assistant Secretary for Community Planning and Development, and the General Deputy Assistant Secretary includes the authority to waive regulations and statutes, but for the Principal Deputy Assistant Secretary and the General Deputy Assistant Secretary the authority to waive statutes is limited in Section B below. Except as provided in Section B, the Secretary of HUD delegates to the Assistant Secretary for Community Planning and Development, the Principal Deputy Assistant Secretary for Community Planning and Development and the General Deputy Assistant Secretary for Community Planning and Development the authority of the Secretary with respect to the programs and matters listed below:

1. The AIDS Housing Opportunity Act, Title VIII, Subtitle D of the Cranston-Gonzalez National Affordable Housing Act, Public Law 101-625, 104 Stat. 4079 (1990) (codified as amended at 42 U.S.C. 12901-12912); 24 CFR part 574.

2. The Base Closure Community Redevelopment and Homeless Assistance Act of 1994, Public Law 103-421, 108 Stat. 4346 (codified as amended at 10 U.S.C. 2687 note); 24 CFR part 586.

3. Capacity Building for Community Development and Affordability Housing grants, Section 4 of the HUD Demonstration Act of 1993, Public Law 103-120, 107 Stat. 1148 (codified as amended at 42 U.S.C. 9816 note).

4. Comprehensive Housing Affordability Strategies (CHAS), Title I of the Cranston-Gonzalez National Affordable Housing Act, Public Law 101-625, 104 Stat. 4079 (1990) (codified as amended at 42 U.S.C. 12701 et seq.); 24 CFR part 91.

5. Economic Development Initiative grants, as provided for in annual HUD appropriations acts (e.g., the Consolidated Appropriations Resolution, Fiscal Year 2003, Public Law 108-7, 117 Stat. (2003)).

6. Urban Empowerment Zones (EZ), as authorized under Title 26, subtitle A, chapter 1, subchapter U of the Internal Revenue Code (codified as amended at 26 U.S.C. 1391 et seq.); 24 CFR parts 597 and 598.

7. The HOME Investment Partnerships Act, Title II of the Cranston-Gonzalez, National Affordable Housing Act, Public Law 101-625, 104 Stat. 4079 (1990) (codified as amended at 42 U.S.C. 12721 et seq.); 24 CFR part 92.

8. The Loan Guarantee Recovery Fund under Section 4 of the Church Arson Prevention Act of 1996, Public Law 104-155, 110 Stat. 1392; 24 CFR part 573.

9. Neighborhood Initiatives grants specifically designed in annual HUD appropriations acts (e.g., the Consolidated Appropriations Act 2010, Pub. L. 111-117, 123 Stat. 3034 (2009)).

10. The Homelessness Prevention and Rapid Re-Housing Program (HPRP), as authorized under the Homelessness Prevention Fund heading of Division A, Title XII of the American Recovery and Reinvestment Act of 2009, Public Law 111-5, 123 Stat. 115.

11. The Housing Trust Fund (HTF), Section 1338 of the Federal Housing Enterprises Financial Safety and Soundness Act of 1992, added by Section 1131 of Public Law 110-289, 112 Stat. 2654 (codified at 12 U.S.C. 4568); 24 CFR part 93.

12. Rural Innovation Fund grants as provided for in annual HUD appropriations acts (e.g., the Consolidated Appropriations Act 2010, Pub. L. 111-117, 123 Stat. 3084 (2009)).

13. The Tax Credit Assistance Program (TCAP), as authorized under the HOME Investments Partnerships Program heading of Division A, Title XII of the American Recovery and Reinvestment Act of 2009, Public Law 111-5, 123 Stat. 115, 220-21.

14. The Self-Help Homeownership Opportunity Program (SHOP) under section 11 of the Housing Opportunity Program Extension Act of 1996, Public Law 104-120, 110 Stat. 834 (codified as amended at 42 U.S.C. 12805 note).

15. Technical Assistance and Capacity Building awards authorized under any program or matter delegated under Section A (e.g., Section 107 of the Housing and Community Development Act 1987, Pub. L. 100-242, 100 Stat. 1815 (1988)); and as provided for in annual and supplemental HUD appropriations acts (e.g., the Consolidated Appropriations Act 2010, Pub. L. 111-117, 123 Stat. 3093 (2009)).

16. Title I of the Housing and Community Development Act of 1974, Public Law 93-383, 88 Stat. 633 (codified as amended at 42 U.S.C. 5301 et seq.); 24 CFR part 570, including the following:

a. The Community Development Block Grant (CDBG) program;

b. The Section 108 Loan Guarantee program;

c. Economic development grants pursuant to Section 108(q);

d. Neighborhood Stabilization programs under the Housing and Economic Recovery Act of 2008, Public Law 110-289, 122 Stat. 2850; Title XII of Division A of the American Recovery and Reinvestment Act of 2009, Public Law 111-5, 123 Stat. 115; and Section 1497 of the Wall Street Reform and Consumer Protection Act of 2010, Public Law 111-203, 124 Stat. 1376 (codified as amended at 42 U.S.C. 5301 note);

e. CDBG Disaster Recovery Grants as provided for in annual and supplemental HUD appropriations acts; and

f. Appalachian Regional Commission grants pursuant to Section 214 of the Appalachian Regional Development Act of 1965, Public Law 89-4, 79 Stat. 5 (codified as amended at 40 U.S.C. 14507) and consistent with the CDBG program authorized under Title I of the Housing and Community Development Act of 1974, Public Law 93-393, 88 Stat. 633 (codified as amended at 42 U.S.C. 5301 et seq.).

17. Title IV of the McKinney-Vento Homeless Assistance Act, Public Law 100-77, 101 Stat. 482 (1987) (codified as amended at 42 U.S.C. 5301 et seq.), including the following:

a. The Emergency Shelter Grants/Emergency Solutions Grants program, 24 CFR 576;

b. The Supportive Housing Program, 24 CFR part 583;

c. The Shelter Plus Care Program, 24 CFR part 582;

d. The Moderate Rehabilitation for Single Room Occupancy program 24 CFR part 882, subpart H;

e. The Continuum of Care program, 24 CFR part 578; and

f. The Rural Housing Stability Assistance program.

18. Title V of the McKinney-Vento Homeless Assistance Act, Public Law 100-77, 101 Stat. 482 (1987) (codified as amended at 42 U.S.C. 1411 et seq.), 24 CFR part 581.

19. The Veterans Homelessness Prevention Demonstration program as provided for in annual HUD appropriations acts (e.g., Omnibus Appropriations Act, 2009, Pub. L. 111-8, 123 Stat. 524 (2009)).

20. Overall departmental responsibility for rulemaking, policies, standards, procedures, and advisory materials for compliance with the Uniform Relocation Assistance and Real Property Acquisition Policies Act of 1970, Public Law 91-646, 84 Stat. 1894 (1971) (codified as amended at 42 U.S.C. 4601 et seq.); 49 CFR part 24. (For departmental programs, only the Assistant Secretary for Community Planning and Development is delegated the authority to exercise the federal waiver authority provided under 49 CFR 24.7).

21. Overall departmental responsibility for compliance with the National Environmental Policy Act of 1969, Public Law 91-190, 83 Stat. 852 (1970) (codified as amended at 42 U.S.C. 4321-4347), and the related laws and authorities cited in 24 CFR 50.4 and 58.5, including (with regard to the Assistant Secretary for Community Planning and Development) the authority to issue and to waive, or approve exceptions or establish criteria for exceptions from provisions of 24 CFR parts 50, 51, 55, and 58. The Assistant Secretary for Community Planning and Development's designee serves as the Departmental lead in all federal initiatives that address NEPA and other federal environmental laws and authorities cited in 24 CFR 50.4 and 58.5 and as the Departmental signatory for environmental compliance MOUs with other federal agencies addressing compliance at the regional and national level.

22. Certain Office of Community Planning and Development Programs that are no longer authorized for funding (or future funding is not anticipated), but whose administration must continue until all departmental responsibilities are discharged and finally terminated. These programs include the following:

a. The Slum Clearance and Urban Renewal program under Title I of the Housing Act of 1949, Public Law 81-171, 63 Stat. 413 and any program which is superseded by, or inactive by reason of Title I of the Housing and Community Development Act of 1974, Public Law 93-383, 88 Stat. 633 (codified as amended at 42 U.S.C. 5316);

b. Area-wide grants, inequities grants, disaster grants and the authority to concur in final approval actions regarding innovative grants under Section 107 of Title I of the Housing and Community Development Act of 1974, Public Law 93-383, 88 Stat. 633 (repealed 1981);

c. Urban Development Action grants under Title I of the Housing and Community Development Act of 1974, Public Law 93-383, 88 Stat. 633. (codified as amended at 42 U.S.C. 5318);

d. The Rental Rehabilitation Program, United States Housing Act of 1937, § 17, Public Law 98-181, 97 Stat. 1196;

e. The Section 312 Rehabilitation Loan Program, Housing Act of 1964, § 312 Public Law 88-560, 78 Stat. 769 (repealed 1990); 24 CFR part 510;

f. The Urban Homesteading Program, Housing and Community Development Act of 1974 § 810, Public Law 93-383, 88 Stat. 633 (repealed 1990);

g. Enterprise Zone Program under Title VII of the Housing and Community Development Act of 1987, Public Law 100-242, 100 Stat. 1815 (1988) (codified as amended at 42 U.S.C. 11501 et seq.);

h. Grant for Urban Empowerment Zones (EZ) as provided for in annual HUD appropriations acts (e.g., Consolidated Appropriations resolution, Fiscal Year 2003, Pub. L. 108-7, 117 Stat. 11 (2003));

i. HUD's Homeownership Zone initiative (HOZ) grants as provided for in Section 205 of the Department of Veterans Affairs and Housing and Urban Development, and Independent Agencies Appropriations Act, 1997, Public Law 104-204, 110 Stat. 2874 (1996) and funded with recaptured Nehemiah grants authorized under Title VI of the Housing and Community Development Act of 1987, Public Law 100-242, 101 Stat. 1815 (1988) (codified at 12 U.S.C. 1715l note);

j. The Innovative Homeless Initiatives Demonstration program under the HUD Demonstration Act of 1993, Public Law 103-120, 107 Stat. 1144;

k. The HOPE for Homeownership of Single-family Housing (HOPE 3) program, Title IV, Subtitle C of the Cranston-Gonzalez National Affordable Housing Act, Public Law 101-625, 104 Stat. 4079 (1990) (codified at 42 U.S.C. 12891);

l. New Communities Program, Section 413 of the Housing and Urban Development Act of 1968, Public Law 90-448, 82 Stat. 476 (repealed 1983), Section 726 of the Housing and Urban-Rural Recovery Act of 1983, Public Law 91-609 (repealed 1983), 84 Stat. 1784, Section 474 of the Housing and Urban-Rural Act of 1983, Public Law 98-181,97 Stat. 1237 (codified at 12 U.S.C. 1710g-5b), and any other functions, powers, and duties that may affect the liquidation of the New Communities program;

m. Rural Housing and Economic Development grants specifically designed originally in the Fiscal Year 1998 HUD Appropriations Act, Public Law 105-65, 111 Stat. 1344 and subsequent annual HUD appropriations acts;

n. Renewal Communities (RC), as authorized under Title 26, subtitle A, chapter 1, subchapter X of the Internal Revenue Code (codified as amended at 26 U.S.C. 1400E et seq.); 24 CFR part 599;

o. All programs consolidated in the Revolving Fund (Liquidating Programs) established pursuant to Title II of the Independent Offices Appropriations Act, Public Law 98-45, 97 Stat. 223 (1983) (codified as amended at 12 U.S.C. 1701g-5), including all authority of the Secretary with respect to functions, administration, and management of the Revolving Fund (Liquidating Programs).

23. Suspensions, and/or limited denial of participations under 2 CFR part 2424 with the concurrence of the General Counsel, or such other official as may be designed by the General Counsel.

24. Pilot Program to Rehabilitate and Modify Homes of Disabled and Low-Income Veterans, as authorized under section 1079 of the Carl Levin and Howard P. “Buck” McKeon National Defense Authorization Act for Fiscal Year 2015, Public Law 113-291, 128 Stat. 3292, 3521-3524 (2014).

Section B. Authority Excepted

There is excepted from the authority delegated under Section A:

1. The power to sue and be sued;

2. Under Title I of the Housing and Community Development Act of 1974, Public Law 93-383, 88 Stat. 633 (codified as amended at 42 U.S.C. 5301 et seq.):

a. The power to administer the Indian Community Development Block Grant program, for which the authority has been delegated to the Assistant Secretary for Public and Indian Housing;

b. The power to administer section 107 programs delegated to the Assistant Secretary for Policy Development and Research;

c. The power to issue obligations for purchase by the Secretary of the Treasury under section 108(g) of the Housing and Community Development Act (42 U.S.C. 5308); and

d. The power and authority of the Secretary with respect to nondiscrimination under section 109 may be exercised only with the advice of the Assistant Secretary for Fair Housing Equal Opportunity.

3. For programs noted in Section A.22 of this delegation that are no longer authorized for funding;

a. The power to establish interest rates; and

b. The power to issue notes or obligations for purchase by the Secretary of the Treasury.

4. The authority delegated under Section A to the Principal Deputy Assistant Secretary and General Deputy Assistant Secretary does not include the authority to waive the following statutes:

a. The authority under annual and supplemental HUD appropriations acts providing Community Development Block Grant funding for disaster recovery (e.g., Pub. L. 113-2) to waive, or specify alternative requirements for, statutory requirements;

b. The authority under section 215(a)(6) of the Cranston-Gonzalez National Affordable Housing Act (42 U.S.C. 12745) to waive qualifying rents; and

c. The authority under section 858(b) of the Cranston-Gonzalez National Affordable Housing Act (42 U.S.C. 12907) to waive requirements for short-term supported housing and services.

Section C. Authority To Redelegate

The Assistant Secretary, the Principal Deputy Assistant Secretary and the General Deputy Assistant Secretary for Community Planning and Development are authorized to redelegate to employees of the Department any authority delegated under Section A. Redelegated authority to CPD Directors, Deputy Assistant Secretaries or other CPD program officials does not supersede the authority of the Assistant Secretary as designee of the Secretary.

Section D. Delegations Superseded

This notice supersedes all prior delegations of authority from the Secretary to the Assistant Secretary for Community Planning and Development, including the delegation published on April 20, 2015, at 80 FR 21747.

Authority: Section 7(d) of the Department of Housing and Urban Development Act, 42 U.S.C. 3535(d).

Dated: January 10, 2017.
Julián Castro,
Secretary.

[FR Doc. 2017-01245 Filed 1-18-17; 8:45 am]

BILLING CODE 4210-67-P